DEPARTMENT OF HEALTH AND HUMAN SERVICES

Administration for Children and Families

Office of Planning, Research and Evaluation; Grant to the National Campaign to Prevent Teen Pregnancy

AGENCY: Office of Planning, Research and Evaluation, ACF, DHHS.

ACTION: Award announcement.

SUMMARY: Notice is hereby given that a noncompetitive grant award is being made to the National Campaign to Prevent Teen Pregnancy to develop a fifty-state survey of teen pregnancy prevention. This survey will also include three to four case studies of individual state efforts.

This 17-month project is being funded noncompetitively, because it is expected to provide valuable information useful to this Department and other practitioners regarding progress and state/community efforts to prevent teen pregnancy. The National Campaign to Prevent Teen Pregnancy is uniquely qualified to conduct the study because of its considerable experience and access to resources. The total cost of the project is $150,496.

FOR FURTHER INFORMATION CONTACT: Nancye Campbell, Office of Planning, Research and Evaluation, Administration for Children and Families, 370 L'Enfant Promenade, SW., Washington, DC 20447, Phone: 202-401-5760.

Dated: November 2, 2000.
Howard Rolston,
Director, Office of Planning, Research and Evaluation.

[FR Doc. 00-28818 Filed 11-8-00; 8:45 am]

BILLING CODE 4184-01-M